DEPARTMENT OF HOMELAND SECURITY

Coast Guard

33 CFR Part 165

[Docket Number USCG-2018-0065]

RIN 1625-AA00

Safety Zones; Coast Guard Sector Ohio Valley Annual and Recurring Safety Zones Update

AGENCY: Coast Guard, DHS.

ACTION: Notice of proposed rulemaking.

SUMMARY: The Coast Guard proposes to amend its safety zone regulations for annual events in Coast Guard Sector Ohio Valley that are listed in the SUPPLEMENTARY INFORMATION section in this document. This proposed rule would add 23 new recurring safety zones and amend the event/sponsor, dates, and/or regulated areas for 31 recurring safety zones already listed in the current table. This action in necessary to protect spectators, participants, and vessels from the hazards associated with annual marine events. This proposed rulemaking would restrict vessel traffic from the safety zones during the events unless authorized by the Captain of the Port Sector Ohio Valley or a designated representative. We invite your comments on this proposed rulemaking.

DATES: Comments and related material must be received by the Coast Guard on or before April 18, 2018.

ADDRESSES: You may submit comments identified by docket number USCG-2018-0065 using the Federal eRulemaking Portal at http://www.regulations.gov. See the “Public Participation and Request for Comments” portion of the SUPPLEMENTARY INFORMATION section for further instructions on submitting comments.

FOR FURTHER INFORMATION CONTACT: If you have questions on this proposed rule, call or email Petty Officer Joshua Herriott, Sector Ohio Valley, U.S. Coast Guard; telephone (502) 779-5343, email Joshua.R.Herriott@uscg.mil.

SUPPLEMENTARY INFORMATION:

I. Table of Abbreviations

CFR Code of Federal Regulations

COTP Captain of the Port Sector Ohio Valley

DHS Department of Homeland Security

FR Federal Register

NPRM Notice of proposed rulemaking

§ Section

U.S.C. United States Code

II. Background, Purpose, and Legal Basis

The Captain of the Port Sector Ohio Valley (COTP) proposes to amend 33 CFR 165.801 to update the table of annual fireworks displays and other marine-related events in Coast Guard Sector Ohio Valley. The current list of annual and recurring safety zones occurring in Sector Ohio Valley is published in Table 1 of 33 CFR 165.801. That most recent table was created through the final rule published on June 6, 2017 (82 FR 25965). The current table in 33 CFR 165.801 needs to be amended to include new safety zones expected to recur annually or biannually and provide new information on existing safety zones.

The proposed annually recurring safety zones are necessary to provide for the safety of life on navigable waters during the events. Based on the nature of these marine events, large numbers of participants and spectators, and event locations, the COTP has determined that the events listed in this proposed rule could pose a risk to participants or waterways users if the normal vessel traffic were to interfere with the events. Possible hazards include risks of injury or death from near or actual contact among participant vessels and spectators or mariners traversing through the regulated area. In order to protect the safety of all waterway users, including event participants and spectators, this proposed rule would establish safety zones for the time and location of each marine event.

This purpose of this proposed rulemaking is to ensure the safety of vessels on the navigable waters in the safety zones during the scheduled events. Vessels would not be permitted to enter the safety zone unless authorized by the COTP or a designated representative. The Coast Guard proposes this rulemaking under authority in 33 U.S.C. 1231.

The Coast Guard is issuing this notice of proposed rulemaking (NPRM) with a 15-day prior notice and opportunity to comment pursuant to section (d)(3) of the Administrative Procedure Act (APA) (5 U.S.C. 553(d)). This provision authorizes an agency to publish a rule in less than 30 days before its effective date for “good cause found and published with the rule.” Under 5 U.S.C. 553(b)(B), the Coast Guard finds that good cause exists for publishing this NPRM with a 15-day comment period because it is impractical to provide a 30-day comment period. These proposed safety zones are necessary to ensure the safety of vessels and persons during the marine events. It is impracticable to publish an NPRM with a 30-day comment period because we must establish some of these updates as early as the end of April 2018. A 15-day comment period would allow the Coast Guard to provide for public notice and comment, but also update the safety zones soon enough that the length of the notice and comment period does not compromise public safety.

III. Discussion of the Proposed Rule

The COTP proposes to amend its safety zone regulations for annual events in Coast Guard Sector Ohio Valley listed in Table 1 of 33 CFR 165.801. This section requires amendment from time to time to properly reflect the recurring safety zone regulations in Sector Ohio Valley. This rule would add 23 new recurring safety zones and amend the event/sponsor, dates, and/or regulated areas for 31 recurring safety zones already listed in the current table. Other than these 23 new safety zones and 31 changes to the event/sponsor, dates, and/or locations of certain events, the regulations of 33 CFR 165.801 and the other provisions in Table 1 of § 165.801 would remain unchanged.

The Coast Guard proposes to revise regulations at 33 CFR 165.801 Table 1 by adding 23 new safety zones. The 23 safety zones being added to Table 1 are below:

Date | Event/sponsor | Ohio Valley location | Regulated area
1 day—Third week of November | Gallipolis in Lights | Gallipolis, OH | Ohio River, Mile 269.2-270 (Ohio).
1 day—One weekend in September | Tribute to the River | Point Pleasant, WV | Ohio River, Mile 264.6-265.6 (West Virginia).
1 day—Labor Day or first week of September | Labor Day Fireworks Show | Marmet, WV | Kanawha River, Mile 67.5-68 (West Virginia).
1 day—One weekend in August | Ravenswood River Festival | Ravenswood, WV | Ohio River, Mile 220-221 (West Virginia).
1 day—First weekend or week in July | Queen's Landing Fireworks | Greenup, KY | Ohio River, Mile 339.3-340.3 (West Virginia).
1 day—First weekend in June | Cumberland River Compact/Nashville Splash Bash | Nashville, TN | Cumberland River, Mile 189.7-192.1 (Tennessee).
1 day—Second weekend in September | Nashville Symphony/Concert Fireworks | Nashville, TN | Cumberland River, Mile 190.1-192.3 (Tennessee).
1 day—Second or third weekend in October | Outdoor Chattanooga/Swim the Suck | Chattanooga, TN | Tennessee River, Mile 452.0-454.5 (Tennessee).
1 day—Friday or Saturday after Thanksgiving | Friends of the Festival/Cheer at the Pier | Chattanooga, TN | Tennessee River, Mile 462.7-465.2 (Tennessee).
1 day—July 3rd | Chattanooga Presents/Pops on the River | Chattanooga, TN | Tennessee River, Mile 462.7-465.2 (Tennessee).
7 days—Scheduled home games | University of Tennessee/UT Football Fireworks | Knoxville, TN | Tennessee River, Mile 645.6-648.3 (Tennessee).
1 day—July 3rd | Randy Boyd/Independence Celebration Fireworks Display | Knoxville, TN | Tennessee River, Mile 625.0-628.0 (Tennessee).
1 day—Second weekend in September | City of Clarksville/Clarksville Riverfest | Clarksville, TN | Cumberland River, Mile 124.5-127.0 (Tennessee).
1 day—Fourth weekend in October | Chattajack | Chattanooga, TN | Tennessee River, Mile 462.7-465.5 (Tennessee).
1 day—First week in May | Belterra Park Gaming Fireworks | Cincinnati, OH | Ohio River, Mile 460.0-462.0 (Ohio).
1 day—First week of July | Cincinnati Symphony Orchestra | Cincinnati, OH | Ohio River, Mile 460.0-462.0 (Ohio).
1 day—First week in August | Gliers Goetta Fest LLC | Newport, KY | Ohio River, Mile 469.0-471.0.
1 day—last 2 weekends in August/first week of September | Wheeling Dragon Boat Race | Wheeling, WV | Ohio River mile 90.4-91.5 (West Virginia).
1 day—week of July 4th | Chester Fireworks | Chester, WV | Ohio River mile 42.0-44.0 (West Virginia).
1 day—week of July 4th | Wheeling Symphony fireworks | Wheeling, WV | Ohio River mile 90-92 (West Virginia).
1 day—First week of August | Kittaning Folk Festival | Kittanning, PA | Allegheny River mile 44.0-46.0 (Pennsylvania).
2 days—One weekend in August | Powerboat Nationals-Parkersburg Regatta/Parkersburg Homecoming Festival | Parkersburg, WV | Ohio River mile 183.5-185.5 (West Virginia).
1 day—One weekend in August | Parkersburg Homecoming Festival-Fireworks | Parkersburg, WV | Ohio River mile 183.5-185.5 (West Virginia).

The Coast Guard also proposes to revise regulations at 33 CFR 165.801 Table 1 by amending 31 existing safety zones listed in the current table. The amendments involve changes to marine event dates and/or regulated areas, with reference by line number to the current Table 1 of 33 CFR 165.801. The 31 safety zones being amended are below:

Line | Date | Sponsor/name | Sector Ohio Valley location | Safety zone | Revision (date/area)
3 | 2 days—Third Friday and Saturday in April | Thunder Over Louisville/Thunder Over Louisville | Louisville, KY | Ohio River, Mile 601.0-607.0 (Kentucky) | area.
8 | 1 day—One weekend in June | West Virginia Symphony Orchestra/Symphony Sunday | Charleston, WV | Kanawha River, Mile 59.5-60.5 (West Virginia) | date.
9 | 1 day—Saturday before 4th of July | Riverfest/Riverfest Inc | Nitro, WV | Kanawha River, Mile 43.1-44.2 (West Virginia) | area.
13 | 1 day—Last weekend in June or first weekend in July | Riverview Park Independence Festival | Louisville, KY | Ohio River, Mile 617.5-620.5 (Kentucky) | area.
17 | 1 day—During the first week of July | Louisville Bats Baseball Club/Louisville Bats Firework Show | Louisville, KY | Ohio River, Mile 602.0-605.0 (Kentucky) | area.
18 | 1 day—During the first week of July | Waterfront Independence Festival/Louisville Orchestra Waterfront 4th | Louisville, KY | Ohio River, Mile 602.0-605.0 (Kentucky) | date and area.
19 | 1 day—During the first week of July | Celebration of the American Spirit Fireworks/All American 4th of July | Owensboro, KY | Ohio River, Mile 754.0-760.0 (Kentucky) | area.
20 | 1 day—During the first week of July | Riverfront Independence Festival Fireworks | New Albany, IN | Ohio River, Mile 606.5-609.6 (Indiana) | area.
21 | 1 day—July 4th | Shoals Radio Group/Spirit of Freedom Fireworks | Florence, AL | Tennessee River, Mile 254.5-257.4 (Alabama) | area.
22 | 1 day—Saturday before July 4th | Town of Cumberland City/Lighting up the Cumberlands | Cumberland City, TN | Cumberland River, Mile 103.0-105.5 (Tennessee) | area.
23 | 1 day—July 4th | City of Knoxville/Knoxville Festival on the 4th | Knoxville, TN | Tennessee River, Mile 646.3-648.7 (Tennessee) | event/sponsor and area.
24 | 1 day—July 4th | Nashville NCVC/Independence Celebration | Nashville, TN | Cumberland River, Mile 189.7-192.3 (Tennessee) | area.
25 | 1 day—Saturday before July 4th, or Saturday after July 4th | Grand Harbor Marina/Grand Harbor Marina July 4th Celebration | Counce, TN | Tennessee-Tombigbee Waterway, Mile 448.5-451.0 (Tennessee) | area.
26 | 1 day—One of the first two weekends in July | City of Bellevue, KY/Bellevue Beach Park Concert Fireworks | Bellevue, KY | Ohio River, Mile 468.2-469.2 (Kentucky and Ohio) | date.
27 | 2 days—Sunday before Labor Day and Labor Day | Cincinnati Bell, WEBN, and Proctor and Gamble/Riverfest | Cincinnati, OH | Ohio River, Mile 469.2-470.5 (Kentucky and Ohio) and Licking River Mile 0.0-3.0 (Kentucky) | date.
30 | 1 day—First week or weekend in July | City of Charleston/City of Charleston Independence Day Celebration | Charleston, WV | Kanawha River, Mile 58.1-59.1 (West Virginia) | date.
31 | 1 day—First week or weekend in July | Portsmouth River Days | Portsmouth, OH | Ohio River, Mile 355.5-356.5 (Ohio) | event/sponsor and date.
39 | 3 days—One of the last three weekends in June | Hadi Shrine/Evansville Freedom Festival Air Show | Evansville, IN | Ohio River, Miles 790.0-796.0 (Indiana) | date and area.
40 | 1 day—Second or third Saturday in June, the last day of the Riverbend Festival | Friends of the Festival, Inc./Riverbend Festival Fireworks | Chattanooga, TN | Tennessee River, Mile 462.7-465.2 (Tennessee) | area.
41 | 2 days—Second Friday and Saturday in June | City of Newport, KY/Italianfest | Newport, KY | Ohio River, Miles 468.6-471.0 (Kentucky and Ohio) | area.
42 | 1 day—Last weekend in June or first weekend in July | City of Aurora/Aurora Firecracker Festival | Aurora, IN | Ohio River Mile, 496.7; 1400 ft. radius from the Consolidated Grain Dock located along the State of Indiana shoreline at (Indiana and Kentucky) | date.
47 | 1 day—Week of July 4th | EQT Pittsburgh 4th of July fireworks | Pittsburgh, PA | Ohio River mile 0.0-0.5, Monongahela River mile 0.0-0.5, Allegheny River mile 0.0-0.5 | event/sponsor.
50 | 1 day—Last weekend in June or first week in July | Evansville Freedom Celebration/4th of July Fireworks | Evansville, IN | Ohio River, Miles 790.0-796.0 (Indiana) | date and area.
51 | 1 day—One of the first two weekends in July | Madison Regatta, Inc./Madison Regatta | Madison, IN | Ohio River, Miles 554.0-561.0 (Indiana) | area.
53 | 2 days—One weekend in July | Marietta Riverfront Roar Fireworks | Marietta, OH | Ohio River, Mile 171.6-172.6 (Ohio) | date.
54 | 1 day—First week or weekend in July | Gallia County Chamber of Commerce/Gallipolis River Recreation Festival | Gallipolis, OH | Ohio River, Mile 269.5-270.5 (Ohio) | date.
55 | 1 day—First week or weekend in July | Kindred Communications/Dawg Dazzle | Huntington, WV | Ohio River, Mile 307.8-308.8 (West Virginia) | date.
59 | 1 day—One weekend in September | Ohio River Sternwheel Festival Committee fireworks | Marietta, OH | Ohio River, Mile 171.5-172.5 (Ohio) | date.
60 | 1 day—Second weekend of October | Leukemia and Lymphoma Society/Light the Night Walk Fireworks | Nashville, TN | Cumberland River, Mile 189.7-192.1 (Tennessee) | area.
61 | 1 day—One weekend in October | West Virginia Motor Car Festival | Charleston, WV | Kanawha River, Mile 58-59 (West Virginia) | date.
69 | 1 day—Last week in June or first week of July | Newburgh Fireworks Display | Newburgh, IN | Ohio River, Mile 777.3-778.3 (Indiana) | date.

The amendments to this rule are necessary to ensure the safety of vessels and people during annual events taking place on or near navigable waters in Sector Ohio Valley. Although this proposed rule would be in effect year-round, the specific safety zones listed in Table 1 of 33 CFR 165.801 would only be enforced during a specified period of time coinciding with the happening of the annual events listed. In accordance with the regulations listed in 33 CFR 165.801(a)-(d), entry into these safety zones is prohibited unless authorized by the COTP or a designated representative. The regulatory text of the updated Table 1 of § 165.801 we are proposing appears at the end of this document.

IV. Regulatory Analyses

We developed this proposed rule after considering numerous statutes and Executive orders related to rulemaking. Below we summarize our analyses based on a number of these statutes and Executive orders and we discuss First Amendment rights of protestors.

A. Regulatory Planning and Review

Executive Orders 12866 and 13563 direct agencies to assess the costs and benefits of available regulatory alternatives and, if regulation is necessary, to select regulatory approaches that maximize net benefits. Executive Order 13771 directs agencies to control regulatory costs through a budgeting process. This NPRM has not been designated a “significant regulatory action,” under Executive Order 12866. Accordingly, the NPRM has not been reviewed by the Office of Management and Budget (OMB), and pursuant to OMB guidance it is exempt from the requirements of Executive Order 13771.

This regulatory action determination is based on the size, location, and duration of the safety zones. These safety zones are limited in size and duration, and are usually positioned away from high vessel traffic zones. Moreover, the Coast Guard would issue a Broadcast Notice to Mariners via VHF-FM marine channel 16 about the zones, and the rule would allow vessels to seek permission to enter the zones.

B. Impact on Small Entities

The Regulatory Flexibility Act of 1980, 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule will not have a significant economic impact on a substantial number of small entities.

Under section 213(a) of the Small Business Regulatory Enforcement Fairness Act of 1996 (Pub. L. 104-121), we want to assist small entities in understanding this proposed rule. If the proposed rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520.).

D. Federalism and Indian Tribal Governments

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it does not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. Normally such actions are categorically excluded from further review under paragraph L60(a) of Appendix A, Table 1 of DHS Instruction Manual 023-01-001-01, Rev. 01. A preliminary Record of Environmental Consideration supporting this determination is available in the docket where indicated under ADDRESSES. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacyNotice.

Documents mentioned in this NPRM as being available in the docket, and all public comments, will be in our online docket at http://www.regulations.gov and can be viewed by following that website's instructions. Additionally, if you go to the online docket and sign up for email alerts, you will be notified when comments are posted or a final rule is published.

List of Subjects in 33 CFR Part 165

Harbors, Marine safety, Navigation (water), Reporting and recordkeeping requirements, Security measures, Waterways.

For the reasons discussed in the preamble, the U.S. Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1, 6.04-1, 6.04-6, and 160.5; Department of Homeland Security Delegation No. 0170.1.

2. In § 165.801, revise Table 1 to read as follows:

§ 165.801 Annual fireworks displays and other events in the Eighth Coast Guard District requiring safety zones.

* * * * *

Table 1 of § 165.801—Sector Ohio Valley Annual and Recurring Safety Zones
Date | Sponsor/name | Sector Ohio Valley location | Safety zone
1. Multiple days—April through November | Pittsburgh Pirates/Pittsburgh Pirates Fireworks | Pittsburgh, PA | Allegheny River, Mile 0.2-0.9 (Pennsylvania).
2. Multiple days—April through November | Cincinnati Reds/Cincinnati Reds Season Fireworks | Cincinnati, OH | Ohio River, Mile 470.1-470.4; extending 500 ft. from the State of Ohio shoreline (Ohio).
3. 2 days—Third Friday and Saturday in April | Thunder Over Louisville/Thunder Over Louisville | Louisville, KY | Ohio River, Mile 601.0-607.0 (Kentucky).
4. Last Sunday in May | Friends of Ironton | Ironton, OH | Ohio River, Mile 326.7-327.7 (Ohio).
5. 1 day—A Saturday in July | Paducah Parks and Recreation Department/Cross River Swim | Paducah, KY | Ohio River, Mile 934.0-936.0 (Kentucky).
6. 1 day—First or second weekend in June | Bellaire All-American Days | Bellaire, OH | Ohio River, Mile 93.5-94.5 (Ohio).
7. 2 days—Second weekend of June | Rice's Landing Riverfest | Rices Landing, PA | Monongahela River, Mile 68.0-68.8 (Pennsylvania).
8. 1 day—One weekend in June | West Virginia Symphony Orchestra/Symphony Sunday | Charleston, WV | Kanawha River, Mile 59.5-60.5 (West Virginia).
9. 1 day—Saturday before 4th of July | Riverfest/Riverfest Inc | Nitro, WV | Kanawha River, Mile 43.1-44.2 (West Virginia).
10. 1 day—First week or weekend in July | Greenup City | Greenup, KY | Ohio River, Mile 335.2-336.2 (Kentucky).
11. 1 day—First week or weekend in July | Middleport Community Association | Middleport, OH | Ohio River, Mile 251.5-252.5 (Ohio).
12. 1 day—First week or weekend in July | People for the Point Party in the Park | South Point, OH | Ohio River, Mile 317-318 (Ohio).
13. 1 day—Last weekend in June or first weekend in July | Riverview Park Independence Festival | Louisville, KY | Ohio River, Mile 617.5-620.5 (Kentucky).
14. 1 day—Third or fourth week in July | Upper Ohio Valley Italian Heritage Festival/Upper Ohio Valley Italian Heritage Festival Fireworks | Wheeling, WV | Ohio River, Mile 90.0-90.5 (West Virginia).
15. 1 day—4th or 5th of July | City of Cape Girardeau July 4th Fireworks Show on the River | Cape Girardeau, MO | Upper Mississippi River, Mile 50.0-52.0.
16. 1 day—Third or fourth of July | Harrah's Casino/Metropolis Fireworks | Metropolis, IL | Ohio River, Mile 942.0-945.0 (Illinois).
17. 1 day—During the first week of July | Louisville Bats Baseball Club/Louisville Bats Firework Show | Louisville, KY | Ohio River, Mile 602.0-605.0 (Kentucky).
18. 1 day—During the first week of July | Waterfront Independence Festival/Louisville Orchestra Waterfront 4th | Louisville, KY | Ohio River, Mile 602.0-605.0 (Kentucky).
19. 1 day—During the first week of July | Celebration of the American Spirit Fireworks/All American 4th of July | Owensboro, KY | Ohio River, Mile 754.0-760.0 (Kentucky).
20. 1 day—During the first week of July | Riverfront Independence Festival Fireworks | New Albany, IN | Ohio River, Mile 606.5-609.6 (Indiana).
21. 1 day—July 4th | Shoals Radio Group/Spirit of Freedom Fireworks | Florence, AL | Tennessee River, Mile 254.5-257.4 (Alabama).
22. 1 day—Saturday before July 4th | Town of Cumberland City/Lighting up the Cumberlands | Cumberland City, TN | Cumberland River, Mile 103.0-105.5 (Tennessee).
23. 1 day—July 4th | City of Knoxville/Knoxville Festival on the 4th | Knoxville, TN | Tennessee River, Mile 646.3-648.7 (Tennessee).
24. 1 day—July 4th | Nashville NCVC/Independence Celebration | Nashville, TN | Cumberland River, Mile 189.7-192.3 (Tennessee).
25. 1 day—Saturday before July 4th, or Saturday after July 4th | Grand Harbor Marina/Grand Harbor Marina July 4th Celebration | Counce, TN | Tennessee-Tombigbee Waterway, Mile 448.5-451.0 (Tennessee).
26. 1 day—One of the first two weekends in July | City of Bellevue, KY/Bellevue Beach Park Concert Fireworks | Bellevue, KY | Ohio River, Mile 468.2-469.2 (Kentucky and Ohio).
27. 2 days—Sunday before Labor Day and Labor Day | Cincinnati Bell, WEBN, and Proctor and Gamble/Riverfest | Cincinnati, OH | Ohio River, Mile 469.2-470.5 (Kentucky and Ohio) and Licking River Mile 0.0-3.0 (Kentucky).
28. 1 day—July 4th | Summer Motions Inc./Summer Motion | Ashland, KY | Ohio River, Mile 322.1-323.1 (Kentucky).
29. 1 day—Last weekend in June or First weekend in July | City of Point Pleasant/Point Pleasant Sternwheel Fireworks | Point Pleasant, WV | Ohio River, Mile 265.2-266.2, Kanawha River Mile 0.0-0.5 (West Virginia).
30. 1 day—First week or weekend in July | City of Charleston/City of Charleston Independence Day Celebration | Charleston, WV | Kanawha River, Mile 58.1-59.1 (West Virginia).
31. 1 day—First week or weekend in July | Portsmouth River Days | Portsmouth, OH | Ohio River, Mile 355.5-356.5 (Ohio).
32. 1 day—Second Saturday in August | Guyasuta Days Festival/Borough of Sharpsburg | Pittsburgh, PA | Allegheny River, Mile 005.5-006.0 (Pennsylvania).
33. 1 day—Second or third week of August | Pittsburgh Foundation/Bob O'Connor Cookie Cruise | Pittsburgh, PA | Ohio River, Mile 0.0-0.5 (Pennsylvania).
34. 1 day—Second full week of August | PA FOB Fireworks Display | Pittsburgh, PA | Allegheny River, Mile 0.8-1.0 (Pennsylvania).
35. 1 day—Third week of August | Beaver River Regatta Fireworks | Beaver, PA | Ohio River, Mile 25.2-25.8 (Pennsylvania).
36. 1 day—December 31 | Pittsburgh Cultural Trust/Highmark First Night Pittsburgh | Pittsburgh, PA | Allegheny River Mile, 0.5-1.0 (Pennsylvania).
37. 1 day—Friday before Thanksgiving | Pittsburgh Downtown Partnership/Light Up Night | Pittsburgh, PA | Allegheny River, Mile 0.0-1.0 (Pennsylvania).
38. Multiple days—April through November | Pittsburgh Riverhounds/Riverhounds Fireworks | Pittsburgh, PA | Monongahela River, Mile 0.22-0.77 (Pennsylvania).
39. 3 days—One of the last three weekends in June | Hadi Shrine/Evansville Freedom Festival Air Show | Evansville, IN | Ohio River, Miles 790.0-796.0 (Indiana).
40. 1 day—Second or third Saturday in June, the last day of the Riverbend Festival | Friends of the Festival, Inc./Riverbend Festival Fireworks | Chattanooga, TN | Tennessee River, Mile 462.7-465.2 (Tennessee).
41. 2 days—Second Friday and Saturday in June | City of Newport, KY/Italianfest | Newport, KY | Ohio River, Miles 468.6-471.0 (Kentucky and Ohio).
42. 1 day—Last weekend in June or first weekend in July | City of Aurora/Aurora Firecracker Festival | Aurora, IN | Ohio River Mile, 496.7; 1400 ft. radius from the Consolidated Grain Dock located along the State of Indiana shoreline at (Indiana and Kentucky).
43. 1 day—second weekend in June | City of St. Albans/St. Albans Town Fair | St. Albans, WV | Kanawha River, Mile 46.3-47.3 (West Virginia).
44. 1 day—Last week of June or first week of July | PUSH Beaver County/Beaver County Boom | Beaver, PA | Ohio River, Mile 25.2-25.6 (Pennsylvania).
45. 1 day—4th of July (Rain date—July 5th) | Monongahela Area Chamber of Commerce/Monongahela 4th of July Celebration | Monongahela, PA | Monongahela River, Mile 032.0-033.0 (Pennsylvania).
46. 1 day—Saturday Third or Fourth full week of July (Rain date—following Sunday) | Oakmont Yacht Club/Oakmont Yacht Club Fireworks | Oakmont, PA | Allegheny River, Mile 12.0-12.5 (Pennsylvania).
47. 1 day—Week of July 4th | EQT 4th of July Celebration | Pittsburgh, PA | Ohio River, Mile 0.0-0.5, Allegheny River, Mile 0.0-0.5, and Monongahela River, Mile 0.0-0.5 (Pennsylvania).
48. 1 day—3rd or 4th of July | City of Paducah, KY | Paducah, KY | Ohio River, Mile 934.0-936.0; Tennessee River, mile 0.0-1.0 (Kentucky).
49. 1 day—3rd or 4th of July | City of Hickman, KY | Hickman, KY | Lower Mississippi River, Mile 921.0-923.0 (Kentucky).
50. 1 day—Last weekend in June or first week in July | Evansville Freedom Celebration/4th of July Fireworks | Evansville, IN | Ohio River, Miles 790.0-796.0 (Indiana).
51. 1 day—One of the first two weekends in July | Madison Regatta, Inc./Madison Regatta | Madison, IN | Ohio River, Miles 554.0-561.0 (Indiana).
52. 1 day—July 4th | Cities of Cincinnati, OH and Newport, KY/July 4th Fireworks | Newport, KY | Ohio River, Miles 469.6-470.2 (Kentucky and Ohio).
53. 2 days—One weekend in July | Marietta Riverfront Roar Fireworks | Marietta, OH | Ohio River, Mile 171.6-172.6 (Ohio).
54. 1 day—First week or weekend in July | Gallia County Chamber of Commerce/Gallipolis River Recreation Festival | Gallipolis, OH | Ohio River, Mile 269.5-270.5 (Ohio).
55. 1 day—First week or weekend in July | Kindred Communications/Dawg Dazzle | Huntington, WV | Ohio River, Mile 307.8-308.8 (West Virginia).
56. Multiple days—September through January | University of Pittsburgh Athletic Department/University of Pittsburgh Fireworks | Pittsburgh, PA | Ohio River mile 0.0-0.1, Monongahela River mile 0.0-0.1, Allegheny River mile 0.0-0.25 (Pennsylvania).
57. Sunday, Monday, or Thursday from August through February | Pittsburgh Steelers Fireworks | Pittsburgh, PA | Allegheny River mile 0.0-0.25, Ohio River mile 0.0-0.1, Monongahela River mile 0.0-0.1.
58. 3 days—Third week in September | Wheeling Heritage Port Sternwheel Festival Foundation/Wheeling Heritage Port Sternwheel Festival | Wheeling, WV | Ohio River, Mile 90.2-90.7 (West Virginia).
59. 1 day—One weekend in September | Ohio River Sternwheel Festival Committee fireworks | Marietta, OH | Ohio River, Mile 171.5-172.5 (Ohio).
60. 1 day—Second weekend of October | Leukemia and Lymphoma Society/Light the Night Walk Fireworks | Nashville, TN | Cumberland River, Mile 189.7-192.1 (Tennessee).
61. 1 day—One weekend in October | West Virginia Motor Car Festival | Charleston, WV | Kanawha River, Mile 58-59 (West Virginia).
62. 1 day—Friday before Thanksgiving | Kittanning Light Up Night Firework Display | Kittanning, PA | Allegheny River, Mile 44.5-45.5 (Pennsylvania).
63. 1 day—First week in October | Leukemia & Lymphoma Society/Light the Night | Pittsburgh, PA | Ohio River, Mile 0.0-0.4 (Pennsylvania).
64. 1 day—Friday before Thanksgiving | Duquesne Light/Santa Spectacular | Pittsburgh, PA | Monongahela River, Mile 0.00-0.22, Allegheny River, Mile 0.00-0.25, and Ohio River, Mile 0.0-0.3 (Pennsylvania).
65. 1 day—During the first two weeks of July | City of Maysville Fireworks | Maysville, KY | Ohio River, Mile 408-409 (Kentucky).
66. 1 day—Saturday before Memorial Day | Venture Outdoors/Venture Outdoors Festival | Pittsburgh, PA | Allegheny River, Mile 0.0-0.25; Monongahela River, Mile 0.0-0.25 (Pennsylvania).
67. 1 day—Third Saturday in July | Pittsburgh Irish Rowing Club/St. Brendan's Cup Currach Regatta | Pittsburgh, PA | Ohio River, Mile 7.0-9.0 (Pennsylvania).
68. 1 day—July 4th | Wellsburg 4th of July Committee/Wellsburg 4th of July Freedom Celebration | Wellsburg, WV | Ohio River, Mile 73.5-74.5 (West Virginia).
69. 1 day—Last week in June or first week of July | Newburgh Fireworks Display | Newburgh, IN | Ohio River, Mile 777.3-778.3 (Indiana).
70. 3 days—Third or Fourth weekend in April | Henderson Tri-Fest/Henderson Breakfast Lions Club | Henderson, KY | Ohio River, Mile 802.5-805.5 (Kentucky).
71. 1 day—Third week of November | Gallipolis in Lights | Gallipolis, OH | Ohio River, Mile 269.2-270 (Ohio).
72. 1 day—One weekend in September | Tribute to the River | Point Pleasant, WV | Ohio River, Mile 264.6-265.6 (West Virginia).
73. 1 day—Labor Day or first week of September | Labor Day Fireworks Show | Marmet, WV | Kanawha River, Mile 67.5-68 (West Virginia).
74. 1 day—One weekend in August | Ravenswood River Festival | Ravenswood, WV | Ohio River, Mile 220-221 (West Virginia).
75. 1 day—First weekend or week in July | Queen's Landing Fireworks | Greenup, KY | Ohio River, Mile 339.3-340.3 (West Virginia).
76. 1 day—First weekend in June | Cumberland River Compact/Nashville Splash Bash | Nashville, TN | Cumberland River, Mile 189.7-192.1 (Tennessee).
77. 1 day—Second weekend in September | Nashville Symphony/Concert Fireworks | Nashville, TN | Cumberland River, Mile 190.1-192.3 (Tennessee).
78. 1 day—Second or third weekend in October | Outdoor Chattanooga/Swim the Suck | Chattanooga, TN | Tennessee River, Mile 452.0-454.5 (Tennessee).
79. 1 day—Friday or Saturday after Thanksgiving | Friends of the Festival/Cheer at the Pier | Chattanooga, TN | Tennessee River, Mile 462.7-465.2 (Tennessee).
80. 1 day—July 3rd | Chattanooga Presents/Pops on the River | Chattanooga, TN | Tennessee River, Mile 462.7-465.2 (Tennessee).
81. 7 days—Scheduled home games | University of Tennessee/UT Football Fireworks | Knoxville, TN | Tennessee River, Mile 645.6-648.3 (Tennessee).
82. 1 day—July 3rd | Randy Boyd/Independence Celebration Fireworks Display | Knoxville, TN | Tennessee River, Mile 625.0-628.0 (Tennessee).
83. 1 day—Second weekend in September | City of Clarksville/Clarksville Riverfest | Clarksville, TN | Cumberland River, Mile 124.5-127.0 (Tennessee).
84. 1 day—Fourth weekend in October | Chattajack | Chattanooga, TN | Tennessee River, Mile 462.7-465.5 (Tennessee).
85. 1 day—First week in May | Belterra Park Gaming Fireworks | Cincinnati, OH | Ohio River, Mile 460.0-462.0 (Ohio).
86. 1 day—First week of July | Cincinnati Symphony Orchestra | Cincinnati, OH | Ohio River, Mile 460.0-462.0 (Ohio).
87. 1 day—First week in August | Gliers Goetta Fest LLC | Newport, KY | Ohio River, Mile 469.0-471.0.
88. 1 day—last 2 weekends in August/first week of September | Wheeling Dragon Boat Race | Wheeling, WV | Ohio River mile 90.4-91.5 (West Virginia).
89. 1 day—week of July 4th | Wheeling Symphony fireworks | Wheeling, WV | Ohio River mile 90-92 (West Virginia).
90. 1 day—week of July 4th | Chester Fireworks | Chester, WV | Ohio River mile 42.0-44.0 (West Virginia).
91. 1 day—First week of August | Kittaning Folk Festival | Kittanning, PA | Allegheny River mile 44.0-46.0 (Pennsylvania).
92. 2 days—One weekend in August | Powerboat Nationals—Parkersburg Regatta/Parkersburg Homecoming Festival | Parkersburg, WV | Ohio River mile 183.5-185.5 (West Virginia).
93. 1 day—One weekend in August | Parkersburg Homecoming Festival—Fireworks | Parkersburg, WV | Ohio River mile 183.5-185.5 (West Virginia).

* * * * *

Dated: March 27, 2018.
M.B. Zamperini,
Captain, U.S. Coast Guard, Captain of the Port Sector Ohio Valley.

[FR Doc. 2018-06739 Filed 4-2-18; 8:45 am]

BILLING CODE 9110-04-P